INTERNATIONAL TRADE COMMISSION

[Investigation No. 731-TA-1587 (Final)]

Certain Preserved Mushrooms From France Determination

On the basis of the record ¹ developed in the subject investigation, the United States International Trade Commission (“Commission”) determines, pursuant to the Tariff Act of 1930 (“the Act”), that an industry in the United States is materially injured by reason of imports of certain preserved mushrooms from France, provided for in subheading 2003.10.01 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 87 FR 72963 (November 28, 2022).

Background

The Commission instituted this investigation effective March 31, 2022, following receipt of petitions filed with the Commission and Commerce by Giorgio Foods, Inc., Blandon, Pennsylvania. The Commission scheduled the final phase of the investigation following notification of a preliminary determination by Commerce that imports of certain preserved mushrooms from France were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of September 21, 2022 (87 FR 57717). The Commission conducted its hearing on November 17, 2022. All persons who requested the opportunity were permitted to participate.

The Commission made this determination pursuant to section 735(b) of the Act (19 U.S.C. 1673d(b)). It completed and filed its determination in this investigation on January 12, 2023. The views of the Commission are contained in USITC Publication 5393 (January 2023), entitled Certain Preserved Mushrooms from France: Investigation No. 731-TA-1587 (Final).

By order of the Commission.
Issued: January 12, 2023.
Katherine Hiner,
Acting Secretary to the Commission.

[FR Doc. 2023-00862 Filed 1-17-23; 8:45 am]

BILLING CODE 7020-02-P